Title 3—

The President

Proclamation 8647 of April 1, 2011

World Autism Awareness Day, 2011

By the President of the United States of America

A Proclamation

With autism spectrum disorders (ASDs) affecting nearly one percent of children in the United States, autism is an urgent public health issue with a profound impact on millions of Americans. World Autism Awareness Day is an opportunity to recognize the contributions of individuals with ASDs and rededicate ourselves to the cause of understanding and responding to autism.

Men and women on the autism spectrum have thrived and excelled in communities across America and around the world. Yet, despite great progress in understanding ASDs, challenges remain for these individuals and their loved ones. For too long, the needs of people living with autism and their families have gone without adequate support and understanding. While we continue to encourage the development of resources for children on the autism spectrum and provide necessary resources for their families, we must also remember that young people with ASDs become adults with ASDs who deserve our support, our respect, and the opportunity to realize their highest aspirations.

As our understanding of the autism spectrum grows, my Administration remains dedicated to supporting children and adults impacted by autism. Led by the Department of Health and Human Services, we have expanded investments in autism research, public health tracking, early detection, and services—from early intervention for children to improved long-term services and support programs for adults. My Administration maintains a firm commitment to advance autism research and treatment, as well as promote education, employment, and equality for all individuals with autism, from early childhood through employment and community life. We will continue to work with the Congress, experts, and families to improve Federal and State programs that assist individuals with ASDs and their families and to bolster the impact and reach of community support and services. I encourage all Americans to visit www.HHS.gov/autism for more information and resources on ASDs.

With each breakthrough in research and each innovative treatment, we open endless possibilities for the many American families who have been touched by autism. As we mark World Autism Awareness Day, let us recommit to improving the lives of individuals and families impacted by ASDs and creating a world free from discrimination where all can achieve their fullest potential.

NOW, THEREFORE, I, BARACK OBAMA, President of the United States of America, by virtue of the authority vested in me by the Constitution and the laws of the United States, do hereby proclaim April 2 of each year as World Autism Awareness Day. I call upon the people of the United States to learn more about autism and what they can do to support individuals on the autism spectrum and their families.

IN WITNESS WHEREOF, I have hereunto set my hand this first day of April, in the year of our Lord two thousand eleven, and of the Independence of the United States of America the two hundred and thirty-fifth.

[FR Doc. 2011-8445

Filed 4-6-11; 8:45 am]

Billing code 3195-W1-P